DEPARTMENT OF COMMERCE

National Oceanic and Atmospheric Administration

RIN 0648-XD894

Mid-Atlantic Fishery Management Council (MAFMC); Fisheries of the Northeastern United States; Public Meeting

AGENCY: National Marine Fisheries Service (NMFS), National Oceanic and Atmospheric Administration (NOAA), Commerce.

ACTION: Notice; public meeting.

SUMMARY: The Mid-Atlantic Fishery Management Council's (Council) Atlantic Mackerel, Squid, and Butterfish (MSB) Advisory Panel (AP) will meet to review recent fishery performance and develop Fishery Performance Reports and/or other recommendations for the Atlantic Mackerel, Squid, and Butterfish fisheries in preparation for the Council's setting of MSB specifications at the June 2015 Council meeting.

DATES: The meeting will be Monday, April 27, 2015 at 12:30 p.m.

ADDRESSES: The meeting will be held via webinar, but anyone can also attend at the Council office address (see below). The webinar link is: http://mafmc.adobeconnect.com/2015msbap/. Please call the Council at least 24 hours in advance if you wish to attend at the Council office.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on webinar access and any background materials.

SUPPLEMENTARY INFORMATION: The purpose of the meeting is to create Fishery Performance Reports by the Council's Atlantic Mackerel, Squid, and Butterfish (MSB) Advisory Panel (AP). The intent of these reports is to facilitate structured input from the Advisory Panel members into the Atlantic Mackerel, Squid, and Butterfish specifications process.

Special Accommodations

The meeting is physically accessible to people with disabilities. Requests for sign language interpretation or other auxiliary aid should be directed to M. Jan Saunders, (302) 526-5251, at least 5 days prior to the meeting date.

Dated: April 6, 2015.
Tracey L. Thompson,
Acting Deputy Director, Office of Sustainable Fisheries, National Marine Fisheries Service.

[FR Doc. 2015-08181 Filed 4-9-15; 8:45 am]

BILLING CODE 3510-22-P